POSTAL SERVICE

Sunshine Act Meetings

TIME AND DATE: September 8, 2023, at 10:00 a.m.

PLACE: Washington, DC.

STATUS: Closed.

MATTERS TO BE CONSIDERED:

Meeting of the Board of Governors

Friday, September 8, 2023, at 10:00 a.m.

1. Financial Matters.

2. Administrative Matters.

GENERAL COUNSEL CERTIFICATION: The General Counsel of the United States Postal Service has certified that the meeting may be closed under the Government in the Sunshine Act.

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2023-19128 Filed 8-31-23; 11:15 am]

BILLING CODE 7710-12-P